ENVIRONMENTAL PROTECTION AGENCY

[EPA-HQ-OAR-2021-0240 FRL-10022-34-OAR]

Technical Documentation for the Temperature Binning Framework

AGENCY: Environmental Protection Agency (EPA).

ACTION: Notice of document availability and request for comments.

SUMMARY: The Environmental Protection Agency (EPA) is announcing a 30-day public comment period for the draft document titled, “Technical Documentation for the Temperature Binning Framework” (EPA 430-R-21-004). This document provides technical documentation of a framework for analyzing the sector-specific impacts of climate change under different levels of warming. This approach serves as an alternative or complement to traditional scenario-based approaches in order to improve communication of results, comparability between studies, and flexibility to facilitate scenario analysis. The draft technical documentation will also be subject to external peer review. Prior to finalizing the draft document, EPA intends to carefully consider all comments received from the public and from external peer reviewers. This draft document is not final as described in EPA's information quality guidelines and does not represent and should not be construed to represent Agency policy or views. The draft document is available via the internet on EPA's web page at https://www.epa.gov/cira/temperature-binning-framework.

DATES: To ensure your comments are considered for the final version of the document, please submit your comments by May 17, 2021.

ADDRESSES: Submit your comments, identified by Docket ID No. EPA-HQ-OAR-2021-0240, to the Federal Portal: https://www.regulations.gov. Follow the online instructions for submitting comments. Once submitted, comments cannot be edited or withdrawn. Do not submit electronically any information you consider to be Confidential Business Information (CBI). EPA may publish any comment received to its public docket, submitted to the Federal Portal, or sent via email. For additional submission methods, the full EPA public comment policy, information about CBI, and general guidance on making effective comments, please visit http://www2.epa.gov/dockets/commenting-epa-dockets.

FOR FURTHER INFORMATION CONTACT: Mr. Jeremy Martinich, Environmental Protection Agency, Office of Air and Radiation, Office of Atmospheric Programs, Climate Change Division, (202) 343-9871, cira@epa.gov.

SUPPLEMENTARY INFORMATION: Characterizing the future risks of climate change is a key goal of climate impacts analysis. Temperature binning provides a framework for analyzing sector-specific impacts by degree of warming as an alternative or complement to traditional scenario-based approaches. This framework aims to improve communication of results, comparability between studies, flexibility to facilitate scenario analysis, and evaluation of important sources of uncertainty. This technical documentation describes the design, structure, and scientific basis of this framework, including how impact modeling projections for a number of sectors have been built into the framework. Designing analyses with relational temperature-impact functions for a given sector can improve comparability between analyses, yield results in a framework that is more intuitive for communications purposes, and be used to inform capabilities to flexibly estimate impacts by sector for any desired scenario.

Paul Gunning,
Director, Climate Change Division.

[FR Doc. 2021-07670 Filed 4-14-21; 8:45 am]

BILLING CODE 6560-50-P